DEPARTMENT OF AGRICULTURE

Forest Service

Brush Creek Project, Elk and Forest Counties, Pennsylvania

AGENCY: Forest Service, USDA.

ACTION: Revised notice of intent to prepare an environmental impact statement.

SUMMARY: Reference is made to our notice of intent to prepare an environmental impact statement for the Brush Creek Project (FR Document 99-5430 filed 3/4/99) published in the Federal Register, Volume 64, No. 43, Friday, March 5, 1999, pages 10618-19 and (FR Document 03-5253 filed 3/6/03) published in the Federal Register, Volume 68, No. 45, Friday, March 7, 2003, pages 11033-35.

In accordance with Forest Service Environmental Policy and Procedures handbook 1909.15, part 21.2—Revision of Notices of Intent, we are revising the date that the Draft Environmental Impact Statement is expected to be filed with the Environmental Protection Agency and be available for public review and comment to November 30, 2005. Subsequently, the date the final EIS is scheduled to be completed is revised to be May 1, 2006.

FOR FURTHER INFORMATION CONTACT: Kevin Treese, Marienville Ranger District, HC 2, Box 130, Marienville, PA 16239 or by telephone at 814 927-6628.

Dated: March 18, 2005.
Kevin B. Elliott,
Forest Supervisor.

[FR Doc. 05-6993 Filed 4-7-05; 8:45 am]

BILLING CODE 3410-11-P